DEPARTMENT OF ENERGY

Ultra-Deepwater Advisory Committee; Correction

AGENCY: Office of Fossil Energy, Department of Energy.

ACTION: Notice of open meeting correction.

The Department of Energy published a notice of open meeting announcing a meeting of the Ultra-Deepwater Advisory Committee, 73 FR 8863. In FR Doc. E8-2891, published on Friday, February 15, 2008, page 8863, under SUPPLEMENTARY INFORMATION, third column, second line, remove ``onshore unconventional'' and add in its place ``ultra-deepwater''.

Issued in Washington, DC on February 29, 2008.
Rachel Samuel,
Deputy Committee Management Officer.

[FR Doc. 08-948 Filed 2-29-08; 11:10 am]

BILLING CODE 6450-01-P